DEPARTMENT OF COMMERCE

National Oceanic and Atmospheric Administration

[RTID 0648-XE870]

Marine Mammals; File No. 22156

AGENCY: National Marine Fisheries Service (NMFS), National Oceanic and Atmospheric Administration (NOAA), Commerce.

ACTION: Notice; issuance of permit amendment.

SUMMARY: Notice is hereby given that Douglas Nowacek, Ph.D., Duke University, Nicholas School of the Environment, Duke University Marine Laboratory, 135 Duke Marine Lab Rd., Beaufort, NC 28516, has been issued a minor amendment to Scientific Research Permit No. 22156-05.

ADDRESSES: The amendment and related documents are available for review upon written request via email to NMFS.Pr1Comments@noaa.gov.

FOR FURTHER INFORMATION CONTACT: Amy Hapeman or Shasta McClenahan, Ph.D., (301) 427-8401.

SUPPLEMENTARY INFORMATION: The requested amendment has been granted under the authority of the Marine Mammal Protection Act of 1972, as amended (16 U.S.C. 1361 et seq.) and the regulations governing the taking and importing of marine mammals (50 CFR part 216), the Endangered Species Act of 1973, as amended (16 U.S.C. 1531 et seq.), and the regulations governing the taking, importing, and exporting of endangered and threatened species (50 CFR parts 222 through 226).

The original permit (No. 22156), issued on May 8, 2020 (85 FR 35638, June 11, 2020) authorized the permit holder to conduct research on 31 cetacean species in U.S. and international waters of the North Atlantic Ocean. Species include endangered blue (Balaenoptera musculus), fin (B. physalus), sei (B. borealis), and sperm (Physeter macrocephalus) whales. Researchers may conduct surveys by vessel and an unmanned aircraft system (UAS) to approach, count, observe, photograph, remotely measure, and track cetaceans. During surveys, researchers may conduct acoustic playback trials, collect biological samples, and tag animals. Non-target cetaceans in the vicinity of research may be unintentionally harassed. Biological samples collected in international waters may be imported into the United States and cell lines may be developed from tissue samples. Two minor amendments to the permit were issued to update biopsy sampling mitigation measures (Permit No. 22156-01; January 29, 2021) and expand the use of UAS to all authorized species (Permit No. 22156-02; May 23, 2022). A major amendment to the permit was issued to authorize dart tagging of 12 species in the permit and reallocate take numbers for fin whales (Permit No. 22156-03; March 15, 2023). A minor amendment to the permit was issued to authorize an additional method of collecting blow samples (Permit No. 22156-04; June 30, 2023). A major amendment to the permit was issued to authorize temporary paintball marking of two cetacean species authorized in the permit (Permit No. 22156-05; October 16, 2023). This minor amendment extends the duration of the permit through May 31, 2026, but does not change any other terms or conditions of the permit.

Dated: May 14, 2025.
Shannon Bettridge,
Chief, Marine Mammal and Sea Turtle Conservation Division, Office of Protected Resources, National Marine Fisheries Service.

[FR Doc. 2025-08942 Filed 5-19-25; 8:45 am]

BILLING CODE 3510-22-P